DEPARTMENT OF COMMERCE

National Oceanic and Atmospheric Administration

RIN 0648-XB114

Notice of Availability of Draft Documents for Public Comment Related to a Fishery Conservation Plan and Research Permits for the Washington State Department of Fish and Wildlife

AGENCY: National Marine Fisheries Service (NMFS), National Oceanic and Atmospheric Administration (NOAA), Commerce.

ACTION: Notice; reopening of comment period.

SUMMARY: NMFS is reopening the comment period for a draft Environmental Assessment (EA) and Fishery Conservation Plan (Plan) related to scientific research and fisheries management measures in waters of the Puget Sound/Georgia Basin, Washington.

DATES: Written comments on the draft EA and proposed Plan and associated applications must be received on or before May 11, 2012.

ADDRESSES: Address all written comments to: Dan Tonnes, National Marine Fisheries Service, 7600 Sand Point Way NE., Building Number 1, Seattle, WA 98115-6349, facsimile (206) 526-6426. Comments may be submitted by email to the following address: WDFWEA.nwr@noaa.gov. In the subject line of the email, include the Document identifier: WDFWEA. Comments and materials received will be available for public inspection, by appointment, during normal business hours at the office listed in the ADDRESSES section of this notice.

FOR FURTHER INFORMATION CONTACT: Dan Tonnes, National Marine Fisheries Service, 7600 Sand Point Way NE., Building Number 1, Seattle, WA 98115-6349, facsimile (206) 526-6426, phone (206) 526-4643, email: Dan.Tonnes@noaa.gov.

SUPPLEMENTARY INFORMATION:

Background

NMFS published a document in the Federal Register on March 30, 2012, concerning the availability of a draft documents for public comment related to a Fishery Conservation Plan and Research Permits for the Washington State Department of Fish and Wildlife. The comment period for this action expired on April 23, 2012. The comment period is being reopened to provide additional opportunity for public comment.

Reopening of Comment Period

The comment period is reopened through May 11, 2012.

Document Availability

The documents are available electronically on the World Wide Web at http://www.nwr.noaa.gov.

Dated: May 1, 2012.
Dwayne Meadows,
Acting Chief, Endangered Species Division, Office of Protected Resources, National Marine Fisheries Service.

[FR Doc. 2012-10841 Filed 5-3-12; 8:45 am]

BILLING CODE 3510-22-P